DEPARTMENT OF THE INTERIOR

National Park Service

Notice of Intent to Repatriate a Cultural Item in the Possession of the Peabody Museum of Archaeology and Ethnology, Harvard University, Cambridge, MA

AGENCY: National Park Service, Interior.

ACTION: Notice.

Notice is hereby given under the Native American Graves Protection and Repatriation Act (NAGPRA), 43 CFR 10.10 (a)(3), of the intent to repatriate a cultural item in the possession of the Peabody Museum of Archaeology and Ethnology, Harvard University, Cambridge, MA, that meets the definition of “unassociated funerary object” under Section 2 of the Act.

This notice is published as part of the National Park Service’s administrative responsibilities under NAGPRA, 43 CFR 10.2 (c). The determinations within this notice are the sole responsibility of the museum, institution, or Federal agency that has control of this cultural item. The National Park Service is not responsible for the determinations within this notice.

The cultural item is one beaded blanket fragment.

This object was purchased on behalf of William Claflin by Mrs. D. F. Craig, who lived near Fort Sill, OK, from 1922 to 1925. In 1985, the object was bequeathed to the Peabody Museum of Archaeology and Ethnology as part of the William Claflin Collection.

Peabody Museum of Archaeology and Ethnology records indicate that the object “was bought by Mrs. Craig from an Indian Trader near Ft. Sill who claimed it had been taken from a grave” and that the grave was that of a “Comanche?” individual. Based on the specific cultural affiliation suggested by the collector, as noted in museum records, this burial was most likely a Comanche burial from the historic period. This unassociated funerary object originated in a region historically occupied by the Comanche, Apache, and Kiowa tribes. Therefore, the preponderance of historical, geographic, and archaeological evidence indicates that a reasonable link of shared group identity can be made between this unassociated funerary object and the Comanche Indian Tribe, Oklahoma.

Based on the above-mentioned information, officials of the Peabody Museum of Archaeology and Ethnology have determined that, pursuant to 43 CFR 10.2 (d)(2)(ii), this cultural item is reasonably believed to have been placed with or near individual human remains at the time of death or later as part of the death rite or ceremony and is believed, by a preponderance of the evidence, to have been removed from a specific burial site of a Native American individual. Officials of the Peabody Museum of Archaeology and Ethnology also have determined that, pursuant to 43 CFR 10.2 (e), there is a relationship of shared group identity that can be reasonably traced between this cultural item and the Comanche Indian Tribe, Oklahoma.

This notice has been sent to officials of the Apache Tribe of Oklahoma; Fort Sill Apache Tribe of Oklahoma; Comanche Indian Tribe, Oklahoma; and Kiowa Indian Tribe of Oklahoma. Representatives of any other Indian tribe that believes itself to be culturally affiliated with this unassociated funerary object should contact Patricia Capone, Repatriation Coordinator, Peabody Museum of Archaeology and Ethnology, Harvard, 11 Divinity Avenue, Cambridge, MA 02138, telephone (617) 496-3702, before April 24, 2002. Repatriation of this unassociated funerary object to the Comanche Indian Tribe, Oklahoma may begin after that date if no additional claimants come forward.

Dated: February 5, 2002.
Robert Stearns,
Manager, National NAGPRA Program.

[FR Doc. 02-7012 Filed 3-22-02; 8:45 am]

BILLING CODE 4310-70-S